Executive Order 14347 of September 5, 2025

Restoring the United States Department of War

By the authority vested in me as President by the Constitution and the laws of the United States of America, it is hereby ordered:

Section 1. Purpose. On August 7, 1789, 236 years ago, President George Washington signed into law a bill establishing the United States Department of War to oversee the operation and maintenance of military and naval affairs. It was under this name that the Department of War, along with the later formed Department of the Navy, won the War of 1812, World War I, and World War II, inspiring awe and confidence in our Nation's military, and ensuring freedom and prosperity for all Americans. The Founders chose this name to signal our strength and resolve to the world. The name “Department of War,” more than the current “Department of Defense,” ensures peace through strength, as it demonstrates our ability and willingness to fight and win wars on behalf of our Nation at a moment's notice, not just to defend. This name sharpens the Department's focus on our own national interest and our adversaries' focus on our willingness and availability to wage war to secure what is ours. I have therefore determined that this Department should once again be known as the Department of War and the Secretary should be known as the Secretary of War.

Sec. 2. Implementation. (a) The Secretary of Defense is authorized the use of this additional secondary title—the Secretary of War—and may be recognized by that title in official correspondence, public communications, ceremonial contexts, and non-statutory documents within the executive branch.

(b) The Department of Defense and the Office of the Secretary of Defense may be referred to as the Department of War and the Office of the Secretary of War, respectively, in the contexts described in subsection (a) of this section.

(c) The provisions of this section shall also apply, as appropriate, to subordinate officials within the Department of Defense, who may use corresponding secondary titles such as Deputy Secretary of War or Under Secretary of War in the contexts described in subsection (a) of this section.

(d) All executive departments and agencies shall recognize and accommodate the use of such secondary titles in internal and external communications, provided that the use of such titles does not create confusion with respect to legal, statutory, or international obligations.

(e) Statutory references to the Department of Defense, Secretary of Defense, and subordinate officers and components shall remain controlling until changed subsequently by the law.

(f) Within 30 days of the date of this order, the Secretary of War shall submit to the President, through the Assistant to the President for National Security Affairs, a notification for transmittal to the Congress of any office, executive department or agency, component, or command that begins using a secondary Department of War designation.

(g) Within 60 days of the date of this order, the Secretary of War shall submit to the President, through the Assistant to the President for National Security Affairs, a recommendation on the actions required to permanently change the name of the Department of Defense to the Department of War. This recommendation shall include the proposed legislative and executive actions necessary to accomplish this renaming.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of War.

THE WHITE HOUSE,

September 5, 2025.

[FR Doc. 2025-17508

Filed 9-9-25; 11:15 am]

Billing code 6001-FR-P